DEPARTMENT OF COMMERCE

National Oceanic and Atmospheric Administration

[I.D. 071100C]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: American Fisheries Act: Vessel and Processor Permit Applications.

Form Number(s): None.

OMB Approval Number: 0648-0393.

Type of Request: Regular submission.

Burden Hours: 83.

Number of Respondents: 141.

Average Hours Per Response: 2 hours for a permit application, 30 minutes for a replacement vessel application.

Needs and Uses: The American Fisheries Act (AFA) established an allocation program for the pollock fishery of the Bering Sea and Aleutian Islands Management Area (BSAI). NOAA issued an emergency interim rule to give immediate effect to all AFA-mandated management measures. Under the AFA, only vessels and processors that meet specific qualifying criteria are eligible to fish for and process pollock in the BSAI. The BSAI pollock quota is suballocated to groups of vessel owners who form fishing vessel cooperatives under the AFA. NOAA administers new AFA fishing, processing, and cooperative permits for the BSAI pollock fishery through application form requirements for the participants to identify and permit the vessels and processors that are eligible to participate in the BSAI pollock fishery by requiring the owners of vessels and processors to submit evidence of their qualification to participate in the BSAI pollock fishery.

Affected Public: Business and other for-profit organizations.

Frequency: Annual, every four years, and on occasion.

Respondent's Obligation: Required to obtain or retain benefits.

OMB Desk Officer: David Rostker, (202) 395-3897.

Copies of the above information collection proposal can be obtained by calling or writing Linda Engelmeier, DOC Forms Clearance Officer, (202) 482-3272, Department of Commerce, Room 6086, 14th and Constitution Avenue, NW, Washington, DC 20230 (or via the Internet at

lengelme@doc.gov).

Written comments and recommendations for the proposed information collection should be sent within 30 days of publication of this notice to David Rostker, OMB Desk Officer, Room 10202, New Executive Office Building, Washington, DC 20503.

Dated: July 7, 2000.
Madeleine Clayton,
Management Analyst, Office of the Chief Information Officer.

[FR Doc. 00-17896 Filed 7-13-00; 8:45 am]

BILLING CODE 3510-22-F